DEPARTMENT OF THE INTERIOR

Bureau of Indian Affairs

[2231A2100DD/AAKC001030/A0A501010.999900]

Indian Gaming; Approval of Tribal-State Class III Gaming Compacts in the State of North Dakota

AGENCY: Bureau of Indian Affairs, Interior.

ACTION: Notice.

SUMMARY: This notice publishes the approval of the Amended Gaming Compact between the Sisseton-Wahpeton Oyate of the Lake Traverse Reservation and the State of North Dakota, the Amended Gaming Compact between the Spirit Lake Tribe and the State of North Dakota, and the Amended Gaming Compact between the Turtle Mountain Band of Chippewa Indians of North Dakota and the State of North Dakota (Amendments), governing class III gaming for the (Tribes) in the State of North Dakota (State).

DATES: The Amendments take effect on December 19, 2022.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendments waive the State's Eleventh Amendment immunity if the parties negotiate a successor compact, thereby permitting enforcement of the good faith negotiation provisions in IGRA. If a successor compact is not successfully concluded, the existing compact will remain effective throughout IGRA's remedial process. The Amendments also add electronic poker games, sports book event wagering, any class III gaming authorized by State law, and mobile gaming within tribal lands. The Amendments are approved.

Bryan Newland,
Assistant Secretary—Indian Affairs.

[FR Doc. 2022-27471 Filed 12-16-22; 8:45 am]

BILLING CODE 4337-15-P